DEPARTMENT OF TRANSPORTATION

Federal Highway Administration

Notice of Final Federal Agency Actions on Proposed Highways in South Carolina

AGENCY: Federal Highway Administration (FHWA), DOT.

ACTION: Notice of limitation on claims for judicial review of actions by FHWA and other Federal agencies.

SUMMARY: This notice announces actions taken by the FHWA and other Federal agencies that are final within the meaning of 23 U.S.C. 139(l)(1). The actions relate to various proposed highway projects in the State of South Carolina. Those actions grant licenses, permits, and approvals for the projects.

DATES: By this notice, the FHWA is advising the public of final agency actions subject to 23 U.S.C. 139(l)(1). A claim seeking judicial review of the Federal agency actions on any of the listed highway projects will be barred unless the claim is filed on or before September 13, 2006. If the Federal law that authorizes judicial review of a claim provides a time period of less than 180 days for filing such claim, then that shorter time period still applies.

FOR FURTHER INFORMATION CONTACT: Mr. Robert L. Lee, Division Administrator, Federal Highway Administration, 1835 Assembly Street, Suite 1270, Columbia, SC 29201; Telephone: (803) 765-5411; e-mail: bob.lee@fhwa.dot.gov. The FHWA South Carolina Division Office's normal business hours are 7 a.m. to 4:30 p.m. (eastern time). You may also contact Mr. J. Berry Still, P.E., South Carolina Department of Transportation, 955 Park Street, P.O. Box 191, Columbia, SC 29202-0191; Telephone: (803) 737-9967; e-mail: StillJB@scdot.org.

SUPPLEMENTARY INFORMATION: Notice is hereby given that the FHWA and other Federal agencies have taken final agency actions by issuing licenses, permits, and approvals for the highway projects in the State of South Carolina that are listed below. The actions by the Federal agencies on a project, and the laws under which such actions were taken, are described in the documented categorical exclusion (CE), environmental assessment (EA) environmental impact statement (EIS) or re-evaluation issued in connection with the project, and in other documents in the FHWA administrative record for the project. The CE, EA, FEIS or re-evaluation and other documents from the FHWA administrative record files for the listed projects are available by contacting the FHWA or the SCDOT at the addresses provided above.

This notice applies to all Federal agency decisions on the listed projects as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303]; Landscaping and Scenic Enhancement (Wildflowers), 23 U.S.C. 319.

4. Wildlife: Endangered Species Act [16 U.S.C. 1531-1544 and Section 1536], Marine Mammal Protection Act [16 U.S.C. 1361], Anadromous Fish Conservation Act [16 U.S.C. 757(a)-757(g)], Fish and Wildlife Coordination Act [16 U.S.C. 661-667(d)], Migratory Bird Treaty Act [16 U.S.C. 703-712], Magnuson-Stevenson Fishery Conservation and Management Act of 1976, as amended [16 U.S.C. 1801 et seq.].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act, 33 U.S.C. 1251-1377 (Section 404, Section 401, Section 319); Coastal Barrier Resources Act, 16 U.S.C. 3501-3510; Coastal Zone Management Act, 16 U.S.C. 1451-1465; Land and Water Conservation Fund (LWCF), 16 U.S.C. 4601-4604; Safe Drinking Water Act (SDWA), 42 U.S.C. 300(f)-300(j)(6); Rivers and Harbors Act of 1899, 33 U.S.C. 401-406; Wild and Scenic Rivers Act, 16 U.S.C. 1271-1287; Emergency Wetlands Resources Act, 16 U.S.C. 3921, 3931; TEA-21 Wetlands Mitigation, 23 U.S.C. 103(b)(6)(m), 133(b)(11); Flood Disaster Protection Act, 42 U.S.C. 4001-4128.

8. Hazardous Materials: Comprehensive Environmental Response, Compensation, and Liability Act (CERCLA), 42 U.S.C. 9601-9675; Superfund Amendments and Reauthorization Act of 1986 (SARA); Resource Conservation and Recovery Act (RCRA), 42 U.S.C. 6901-6992(k).

9. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

The projects subject to this notice are:

1. Project Location: Richland and Calhoun Counties, U.S. 601 Bridge Replacements. Project Reference Number: BR-BR88(042). Project type: The project proposes to provide for the replacement of the U.S. Route 601 bridge over the Congaree River and three overflow bridges including pavement resurfacing. The section of U.S. 601 proposed for pavement resurfacing and replacement of the four bridges extends from near the intersection of U.S. Route 601/S.C. Route 48 to a point just beyond the Congaree River, a distance of approximately 4.3 miles. NEPA document: An Environmental Assessment (EA) was completed for the proposed project and approved on March 23, 2005. A Finding of No Significant Impacts (FONSI) was issued on November 30, 2005.

2. Project Location: Beaufort and Colleton Counties. U.S. 17 Bridge Replacement. Project Reference Number: BR-BR88(039). Project type: The project includes the replacement of the existing 2-lane U.S. 17 bridge over the Combahee River. The proposed project involves the construction of a new bridge downstream from the existing bridge. The finished product will be an 840′ long by 81′9″ wide structure that will carry four 12′ lanes. NEPA document: A Categorical Exclusion (CE) was completed on the proposed project and approved on August 29, 2005.

3. Project Location: Lone Star, Calhoun County; Remini, Clarendon County; Briggs, DeLane, Pearson Connector formerly known as the James E. Clyburn Connector. Project Reference Number: FHWA-SC-EIS-01-01-F. Project type: The proposed action consists of constructing a two-lane road to connect the existing road system from the intersection of S.C. Route 33 and S.C. Route 267 to Secondary Road 52 or Road S-26. The proposed action crosses Lake Marion in the vicinity of an existing CSX railroad bridge and would consist of a 46′10″ wide and approximately 2.8 mile long bridge structure. NEPA document: An Environmental Impact Statement (EIS) was prepared for the project. The FEIS was approved and issued on December 5, 2002. The Record of Decision (ROD) for the project was issued on June 12, 2003.

4. Project Location: Hanahan, Berkeley County, Secondary Road 732, Railroad Avenue Extension. Project Reference Number: NCB-NC08(001). Project type: The project proposes to extend Railroad Avenue east of the existing CSX railroad along the existing railroad right of way. This extension would begin from a point just south of Mabeline Road northward approximately 1.2 miles to Eagle Landing Road. The extended roadway would have a typical section consisting of two 12-foot travel lanes including curb and gutter, and a sidewalk on one side. NEPA document: An Environmental Assessment (EA) was prepared for the project and was approved on October 6, 2004. A Finding of No Significant Impact (FONSI) was issued on December 20, 2004.

5. Project Location: North Augusta, Aiken County, Palmetto Parkway Extension Phase II formerly known as the Bobby Jones Expressway. Project Reference Number: FHWA-SC-75-03-F. Project type: The proposed project will construct a four-lane divided freeway with full access control on new location, along the east side of North Augusta. The freeway, which will be designed to interstate standards and designated as the Palmetto Parkway or I-520, will begin just north of U.S. 1/U.S. 78 and continue north to I-20, a distance of approximately 6.5 miles. The roadway will provide regional travel between I-20 and I-520 south of Augusta, GA. NEPA document: An Environmental Impact Statement (EIS) was prepared for the project. A Final Environmental Impact Statement (FEIS) was issued on September 19, 1979. A Re-evaluation of the FEIS was completed on October 9, 2003. A Record of Decision (ROD) was issued on February 24, 2004.

(Catalog of Federal Domestic Assistance Program Number 20.205, Highway Planning and Construction. The regulations implementing Executive Order 12372 regarding intergovernmental consultation on Federal programs and activities apply to this program.)

Authority: 23 U.S.C. 139(l)(1).

Issued on: March 13, 2006.
Robert D. Thomas,
Assistant Division Administrator, Columbia, SC.

[FR Doc. E6-3914 Filed 3-16-06; 8:45 am]

BILLING CODE 4910-22-P